DEPARTMENT OF HEALTH AND HUMAN SERVICES

Substance Abuse and Mental Health Services Administration

Changes to a Fiscal Year (FY) 2001 Funding Opportunities Notice

AGENCY: Center for Substance Abuse Prevention (CSAP), Substance Abuse and Mental Health Services Administration (SAMHSA), DHHS.

ACTION: Modification/Clarification of a Notice of Funding Availability Regarding the Substance Abuse and Mental Health Services Administration, Center for Substance Abuse Prevention Minority HIV Prevention Initiatives Funding Announcement.

SUMMARY: This notice is to inform the public that the SAMHSA/CSAP announcement No. SP-01-006, Targeted Capacity Expansion Initiatives for Substance Abuse Prevention (SAP) and HIV Prevention (HIVP) in Minority Communities (Short Title: Minority HIV Prevention Initiatives) will be changed. Effective immediately, ALL domestic public and private non-profit, youth-serving, community-based organizations that serve predominantly racial and ethnic minority populations disproportionately impacted by the HIV/AIDS epidemic will be eligible to apply for Category 3 funds; eligibility will not be restricted to faith-based organizations or to community-based organizations collaborating with faith-based organizations.

This change in eligibility will ensure that all community-based, youth-serving organizations will have an opportunity to compete for funding on an equal footing. The emphasis is on an organization's qualifications and capacity to effectively provide substance abuse prevention and HIV prevention services to racial and ethnic minority youth, not on its secular or religious status. Faith-based organizations continue to be eligible to apply for funding in all three categories and will, like all other applicants, be evaluated based on how well they can provide the specified services to the target population.

In addition to this change in eligibility, the Category 3 definition for the youth target population has also been clarified as including individuals age 9 through 17.

SP-01-006, Targeted Capacity Expansion Initiatives for Substance Abuse Prevention (SAP) and HIV Prevention (HIVP) in Minority Communities (Short Title: Minority HIV Prevention Initiatives), was previously published in the Federal Register on March 20, 2001 (Vol. 66, Number 54, pages 15733-15735).

Program Contact: For questions concerning program issues, contact: Elaine Parry, Center for Substance Abuse Prevention, Substance Abuse and Mental Health Services Administration, Rockwall II, 9th Floor, 5600 Fishers Lane, Rockville, MD 20857, (301) 443-0365, Email: EParry@SAMHSA.gov.

Dated: May 21, 2001.
Richard Kopanda,
Executive Officer, SAMHSA.

[FR Doc. 01-13235 Filed 5-22-01; 12:27 pm]

BILLING CODE 4162-20-P